DEPARTMENT OF DEFENSE

Department of the Army; Corps of Engineers

Notice of Availability of Draft Environmental Impact Statement for the Floyd County, KY (Levisa Fork Basin), Section 202 Project

AGENCY: Department of the Army, U.S. Army Corps of Engineers, DoD.

ACTION: Notice; extension of comment period.

SUMMARY: The comment period for the Draft Environmental Impact Statement for the Floyd County, KY (Levisa Fork Basin), Section 202 Project published in the Federal Register on Friday, May 5, 2006 (71 FR 26478), required comments be submitted 45 days (June 19, 2006) following publication in the Federal Register. The comment period has been extended to 60 days (July 5, 2006).

FOR FURTHER INFORMATION CONTACT: Stephen O'Leary, Telephone (304) 399-5841.

Brenda S. Bowen,
Army Federal Register Liaison Officer.

[FR Doc. 06-5339 Filed 6-12-06; 8:45 am]

BILLING CODE 3710-GM-M